DEPARTMENT OF JUSTICE

Bureau of Alcohol, Tobacco, Firearms and Explosives

[OMB Number 1140-0017]

Agency Information Collection Activities; Proposed eCollection eComments Requested; Extension Without Change of a Currently Approved Collection Annual Firearms Manufacturing and Exportation Report Under 18 U.S.C. Chapter 44, Firearms—ATF Form 5300.11

AGENCY: Bureau of Alcohol, Tobacco, Firearms and Explosives, Department of Justice

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection (IC) is also being published to obtain comments from the public and affected agencies.

DATES: Comments are encouraged and will be accepted for 60 days until July 10, 2020.

FOR FURTHER INFORMATION CONTACT: If you have additional comments, regarding the estimated public burden or associated response time, suggestions, or need a copy of the proposed information collection instrument with instructions, or additional information, please contact: Tracey Robertson, ATF Federal Firearms Licensing Center either by mail at 244 Needy Road, Martinsburg, WV 25405, by email at Tracey.Robertson@atf.gov, or by telephone at 304-616-4647.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension without change of a currently approved collection.

2. The Title of the Form/Collection: Annual Firearms Manufacturing and Exportation Report Under 18 U.S.C. Chapter 44, Firearms.

3. The agency form number, if any, and the applicable component of the Department sponsoring the collection:

Form number (if applicable): ATF Form 5300.11.

Component: Bureau of Alcohol, Tobacco, Firearms and Explosives, U.S. Department of Justice.

4. Affected public who will be asked or required to respond, as well as a brief abstract:

Primary: Business or other for-profit.

Other (if applicable): None.

Abstract: The information collected on the Annual Firearms Manufacturing and Exportation Report Under 18 U.S.C. Chapter 44, Firearms—ATF Form 5300.11, is used to compile statistics about the manufacture and exportation of firearms. This collection of information is mandatory under 18 U.S.C. 923(g)(5)(A). The completed ATF Form 5300.11 must be submitted annually by every Type 07 and Type 10 Federal Firearms Licensees (FFLs), even if no firearms were exported or distributed into commerce.

5. An estimate of the total number of respondents and the amount of time estimated for an average respondent to respond: An estimated 13,600 respondents will utilize the form annually, and it will take each respondent approximately 20 minutes to complete their responses.

6. An estimate of the total public burden (in hours) associated with the collection: The estimated annual public burden associated with this collection is 4,533 hours, which is equal to 13,600 (# of respondents) * 1 (total responses per respondents) * .333 (24 minutes).

7. An Explanation of the Change in Estimates: Due to more licensed manufacturers, the total respondents to this IC has increased by 1,600, since the last renewal in 2017. An increase in the total respondents has also contributed in a slight increase in the total burden hours by 533, since 2017.

If additional information is required contact: Melody Braswell, Department Clearance Officer, United States Department of Justice, Justice Management Division, Policy and Planning Staff, Two Constitution Square, 145 N Street NE, 3E.405A, Washington, DC 20530.

Dated: May 5, 2020.
Melody Braswell,
Department Clearance Officer for PRA, U.S. Department of Justice.

[FR Doc. 2020-09949 Filed 5-8-20; 8:45 am]

BILLING CODE 4410-02-P